DEPARTMENT OF HOMELAND SECURITY

Federal Emergency Management Agency

[Docket ID FEMA-2017-0002; Internal Agency Docket No. FEMA-B-1733]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: June 28, 2017.
Roy E. Wright,
Deputy Associate Administrator for Insurance and Mitigation, Department of Homeland Security, Federal Emergency Management Agency.

State and county | Location and case No. | Chief executive officer of community | Community map repository | Online location of letter of map revision | Effective date of modification | Community No.
Colorado:
Boulder | Town of Superior (17-08-0088P) | The Honorable Clint Folsom, Mayor, Town of Superior, 124 East Coal Creek Drive, Superior, CO 80027 | Town Hall, 124 East Coal Creek Drive, Superior, CO 80027 | http://www.msc.fema.gov/lomc | Sep. 28, 2017 | 080203
Boulder | Unincorporated areas of Boulder County (17-08-0088P) | The Honorable Deb Gardner, Chair, Boulder County, Board of Commissioners, P.O. Box 471, Boulder, CO 80306 | Boulder County Transportation Department, 2525 13th Street, Suite 203, Boulder, CO 80306 | http://www.msc.fema.gov/lomc | Sep. 28, 2017 | 080023
Denver | City and County of Denver (17-08-0542P) | The Honorable Michael Hancock, Mayor, City and County of Denver, 1437 Bannock Street, Room 350, Denver, CO 80202 | Department of Public Works, 201 West Colfax Avenue, Denver, CO 80202 | http://www.msc.fema.gov/lomc | Sep. 29, 2017 | 080046
Connecticut:
Fairfield | Town of Greenwich (17-01-0822P) | The Honorable Peter Tesei, First Selectman, Town of Greenwich, Board of Selectmen, 101 Field Point Road, Greenwich, CT 06830 | Planning and Zoning Department, 101 Field Point Road, Greenwich, CT 06830 | http://www.msc.fema.gov/lomc | Sep. 5, 2017 | 090008
New London | Town of Groton (17-01-0859P) | Mr. Mark R. Oefinger, Manager, Town of Groton, 45 Fort Hill Road, Groton, CT 06340 | Town Hall, 45 Fort Hill Road, Groton, CT 06340 | http://www.msc.fema.gov/lomc | Sep. 15, 2017 | 090097
New London | Town of Ledyard (17-01-0859P) | The Honorable Fred Allyn III, Mayor, Town of Ledyard, 741 Colonel Ledyard Highway, Ledyard, CT 06339 | Town Hall, 741 Colonel Ledyard Highway, Ledyard, CT 06339 | http://www.msc.fema.gov/lomc | Sep. 15, 2017 | 090157
Florida:
Charlotte | Unincorporated areas of Charlotte County (17-04-3236P) | The Honorable Bill Truex, Chairman, Charlotte County Board of Commissioners, 18500 Murdock Circle, Port Charlotte, FL 33948 | Charlotte County Community Development Department, 18500 Murdock Circle, Port Charlotte, FL 33948 | http://www.msc.fema.gov/lomc | Sep. 21, 2017 | 120061
Indian River | City of Vero Beach (17-04-3092P) | The Honorable Laura Moss, Mayor, City of Vero Beach, 1053 20th Place, Vero Beach, FL 32960 | Planning and Development Department, 1053 20th Place, Vero Beach, FL 32960 | http://www.msc.fema.gov/lomc | Sep. 25, 2017 | 120124
Lee | City of Sanibel (17-04-1616P) | The Honorable Kevin Ruane, Mayor, City of Sanibel, 800 Dunlop Road, Sanibel, FL 33957 | Planning and Code Enforcement Department, 800 Dunlop Road, Sanibel, FL 33957 | http://www.msc.fema.gov/lomc | Sep. 29, 2017 | 120402
Lee | Unincorporated areas of Lee County (17-04-0381P) | The Honorable Frank Mann, Chairman, Lee County Board of Commissioners, 2120 Main Street, Fort Myers, FL 33901 | Lee County Community Development Department, 1500 Monroe Street, Fort Myers, FL 33901 | http://www.msc.fema.gov/lomc | Oct. 4, 2017 | 125124
Miami-Dade | City of Miami (17-04-3352P) | The Honorable Tomás P. Regalado, Mayor, City of Miami, 3500 Pan American Drive, Miami, FL 33133 | Building Department, 444 Southwest 2nd Avenue, Miami, FL 33130 | http://www.msc.fema.gov/lomc | Sep. 29, 2017 | 120650
Monroe | Unincorporated areas of Monroe County (17-04-4161P) | The Honorable George Neugent, Mayor, Monroe County Board of Commissioners, 500 Whitehead Street, Suite 102, Key West, FL 33040 | Monroe County Building Department, 2798 Overseas Highway, Suite 300, Key West, FL 33050 | http://www.msc.fema.gov/lomc | Sep. 26, 2017 | 125129
Sumter | City of Wildwood (17-04-0118P) | The Honorable Ed Wolf, Mayor, City of Wildwood, 100 North Main Street, Wildwood, FL 34785 | Community Development Department, 7375 Powell Road, Wildwood, FL 34785 | http://www.msc.fema.gov/lomc | Sep. 29, 2017 | 120299
Sumter | Unincorporated areas of Sumter County (17-04-0118P) | The Honorable Doug Gilpin, Chairman, Sumter County Board of Commissioners, 7375 Powell Road, Wildwood, FL 34785 | Sumter County, Community Development Department, 7375 Powell Road, Wildwood, FL 34785 | http://www.msc.fema.gov/lomc | Sep. 29, 2017 | 120296
Georgia: Gordon | Unincorporated areas of Gordon County (17-04-0799P) | The Honorable Becky Hood, Chair, Gordon County Board of Commissioners, 201 North Wall Street, Calhoun, GA 30701 | Gordon County Building, Planning and Development Department, 200 South Wall Street, Calhoun, GA 30701 | http://www.msc.fema.gov/lomc | Aug. 31, 2017 | 130094
Maryland: Montgomery | City of Rockville (17-03-0445P) | Mr. Robert DiSpirito, Manager, City of Rockville, 111 Maryland Avenue, Rockville, MD 20850 | Department of Public Works, 111 Maryland Avenue, Rockville, MD 20850 | http://www.msc.fema.gov/lomc | Sep. 22, 2017 | 240051
Massachusetts:
Worcester | Town of Northbridge (16-01-2019P) | The Honorable James R. Marzec, Chairman, Town of Northbridge Board of Selectmen, 7 Main Street, Whitinsville, MA 01588 | Town Hall, 7 Main Street, Whitinsville, MA 01588 | http://www.msc.fema.gov/lomc | Sep. 20, 2017 | 250322
Worcester | Town of Sutton (16-01-2019P) | The Honorable John L. Hebert, Chairman, Town of Sutton Board of Selectmen, 4 Uxbridge Road, Sutton, MA 01590 | Town Hall, 4 Uxbridge Road, Sutton, MA 01590 | http://www.msc.fema.gov/lomc | Sep. 20, 2017 | 250338
North Carolina:
Catawba | City of Conover (16-04-1634P) | The Honorable Lee E. Moritz, Jr., Mayor, City of Conover, P.O. Box 549, Conover, NC 28613 | City Hall, 101 1st Street East, Conover, NC 28613 | http://www.msc.fema.gov/lomc | May 30, 2017 | 370053
Catawba | City of Conover (16-04-8093P) | The Honorable Lee E. Moritz, Jr., Mayor, City of Conover, P.O. Box 549, Conover, NC 28613 | City Hall, 101 1st Street East, Conover, NC 28613 | http://www.msc.fema.gov/lomc | Sep. 15, 2017 | 370053
Catawba | Unincorporated areas of Catawba County (16-04-1634P) | The Honorable C. Randall Isenhower, Chairman, Catawba County Board of Commissioners, P.O. Box 389, Newton, NC 28658 | Catawba County Planning and Parks Service Department, 100-A South West Boulevard, Newton, NC 28658 | http://www.msc.fema.gov/lomc | May 30, 2017 | 370050
Macon | Town of Franklin (16-04-5247P) | The Honorable Bob Scott, Mayor, Town of Franklin, P.O. Box 1479, Franklin, NC 28744 | Town Hall, 95 East Main Street, Franklin, NC 28734 | http://www.msc.fema.gov/lomc | Sep. 18, 2017 | 375350
Macon | Unincorporated areas of Macon County (16-04-5247P) | The Honorable James P. Tate, Chairman, Macon County Board of Commissioners, 5 West Main Street, NC 28734 | Macon County, Director of Planning, Permitting and Development Office, 5 West Main Street, Franklin, NC 28734 | http://www.msc.fema.gov/lomc | Sep. 18, 2017 | 370150
Onslow | Town of North Topsail Beach (17-04-2762P) | The Honorable Fred J. Burns, Mayor, Town of North Topsail Beach, 2008 Loggerhead Court, North Topsail Beach, NC 28460 | Planning Department, 2008 Loggerhead Court, North Topsail Beach, NC 28460 | http://www.msc.fema.gov/lomc | Oct. 6, 2017 | 370466
Pitt | City of Greenville (17-04-3225P) | The Honorable Allen M. Thomas, Mayor, City of Greenville, P.O. Box 7207, Greenville, NC 27835 | City Hall, 200 West 5th Street, Greenville, NC 27834 | http://www.msc.fema.gov/lomc | Oct. 2, 2017 | 370191
Wake | Town of Apex (17-04-3427P) | The Honorable Lance Olive, Mayor, Town of Apex, P.O. Box 250, Apex, NC 27502 | Engineering Department, 73 Hunter Street, Apex, NC 27502 | http://www.msc.fema.gov/lomc | Oct. 2, 2017 | 370467
Watauga | Town of Boone (16-04-8003P) | The Honorable Rennie Brantz, Mayor, Town of Boone, 567 West King Street, Boone, NC 28607 | Planning and Inspections Department, 680 West King Street, Suite C, Boone, NC 28607 | http://www.msc.fema.gov/lomc | Sept. 14, 2017 | 370253
Watauga | Unincorporated areas of Watauga County (16-04-8003P) | The Honorable John Welch Chairman, Board of Commissioners, 814 West King Street, Suite 205, Boone, NC 28607 | Watauga County Planning and Inspections Department, 331 Queen Street, Suite A, Boone, NC 28607 | http://www.msc.fema.gov/lomc | Sept. 14, 2017 | 370251
Pennsylvania: Chester | Township of West Pikeland (17-03-0003P) | Mr. Jim Wendelgass, Manager, Township of West Pikeland, 1645 Art School Road, Chester Springs, PA 19425 | Township Building, 1645 Art School Road, Chester Springs, PA 19425 | http://www.msc.fema.gov/lomc | Oct. 4, 2017 | 421151
South Dakota: Union | Unincorporated areas of Union County (16-08-0762P) | The Honorable Milton Ustad, Chairman, Union County Board of Commissioners, 209 East Main Street, Elk Point, SD 57025 | Union County Planning and Zoning Department, 209 East Main Street, Elk Point, SD 57025 | http://www.msc.fema.gov/lomc | Sep. 29, 2017 | 460242
Texas:
Bexar | City of Converse (17-06-1168P) | The Honorable Al Suarez, Mayor, City of Converse, 403 South Seguin Road, Converse, TX 78109 | City Hall, 403 South Seguin Road, Converse, TX 78109 | http://www.msc.fema.gov/lomc | Oct. 2, 2017 | 480038
Bexar | City of San Antonio (16-06-4428P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Oct. 2, 2017 | 480045
Collin | City of McKinney (17-06-0438P) | The Honorable Brian Loughmiller, Mayor, City of McKinney, P.O. Box 517, McKinney, TX 75070 | Engineering Department, 221 North Tennessee Street, McKinney, TX 75069 | http://www.msc.fema.gov/lomc | Oct. 2, 2017 | 480135
Collin | Unincorporated areas of Collin County (17-06-0438P) | The Honorable Keith Self, Collin County Judge, 2300 Bloomdale Road, Suite 4192, McKinney, TX 75071 | Collin County Engineering Department, 4690 Community Avenue, Suite 200, McKinney, TX 75071 | http://www.msc.fema.gov/lomc | Oct. 2, 2017 | 480130
Dallas | City of Lancaster (17-06-2357P) | The Honorable Marcus E. Knight, Mayor, City of Lancaster, P.O. Box 940, Lancaster, TX 75146 | City Hall, 700 East Main Street, Lancaster, TX 75146 | http://www.msc.fema.gov/lomc | Sep. 21, 2017 | 480182
Ellis | City of Midlothian (16-06-3253P) | The Honorable Bill Houston, Mayor, City of Midlothian, 104 West Avenue E, Midlothian, TX 76065 | Engineering Department, 104 West Avenue E, Midlothian, TX 76065 | http://www.msc.fema.gov/lomc | Sep. 28, 2017 | 480801
Harris | City of Tomball (16-06-4206P) | The Honorable Gretchen Fagan, Mayor, City of Tomball, 401 Market Street, Tomball, TX 77375 | Community Development Department, 501 James Street, Tomball, TX 77375 | http://www.msc.fema.gov/lomc | Sep. 18, 2017 | 480315
Harris | Unincorporated areas of Harris County (16-06-3930P) | The Honorable Edward M. Emmett, Harris County Judge, 1001 Preston Street, Suite 911, Houston, TX 77002 | Harris County Permit Office, 10555 Northwest Freeway, Suite 120, Houston, TX 77092 | http://www.msc.fema.gov/lomc | Sep. 25, 2017 | 480287
Harris | Unincorporated areas of Harris County (16-06-3936P) | The Honorable Edward M. Emmett, Harris County Judge, 1001 Preston Street, Suite 911, Houston, TX 77002 | Harris County Permit Office, 10555 Northwest Freeway, Suite 120, Houston, TX 77092 | http://www.msc.fema.gov/lomc | Sep. 18, 2017 | 480287
Harris | Unincorporated areas of Harris County (16-06-4206P) | The Honorable Edward M. Emmett, Harris County Judge, 1001 Preston Street, Suite 911, Houston, TX 77002 | Harris County Permit Office, 10555 Northwest Freeway, Suite 120, Houston, TX 77092 | http://www.msc.fema.gov/lomc | Sep. 18, 2017 | 480287
Harris | Unincorporated areas of Harris County (17-06-0884P) | The Honorable Edward M. Emmett, Harris County Judge, 1001 Preston Street, Suite 911, Houston, TX 77002 | Harris County Permit Office, 10555 Northwest Freeway, Suite 120, Houston, TX 77092 | http://www.msc.fema.gov/lomc | Oct. 2, 2017 | 480287
Travis | City of Austin (17-06-0072P) | The Honorable Steve Adler, Mayor, City of Austin, P.O. Box 1088, Austin, TX 78767 | Watershed Protection Department, 505 Barton Springs Road, Austin, TX 78704 | http://www.msc.fema.gov/lomc | Sep. 18, 2017 | 480624
Travis | Unincorporated areas of Travis County (17-06-0072P) | The Honorable Sarah Eckhardt, Travis County Judge, P.O. Box 1748, Austin, TX 78767 | Transportation and Natural Resources Department, 700 Lavaca Street, Suite 540, Austin, TX 78701 | http://www.msc.fema.gov/lomc | Sep. 18, 2017 | 481026
Utah:
Iron | City of Cedar City (17-08-0143P) | The Honorable Maile Wilson, Mayor, City of Cedar City, 10 North Main Street, Cedar City, UT 84720 | City Hall, 10 North Main Street, Cedar City, UT 84720 | http://www.msc.fema.gov/lomc | Oct. 12, 2017 | 490074
Kane | Unincorporated areas of Kane County (17-08-0684P) | The Honorable Dirk Clayson, Chairman, Kane County Commission, 76 North Main Street, Kanab, UT 84741 | Kane County Courthouse, 76 North Main Street, Kanab, UT 84741 | http://www.msc.fema.gov/lomc | Sep. 22, 2017 | 490083
Salt Lake | City of Draper (17-08-0291P) | The Honorable Troy K. Walker, Mayor, City of Draper, 1020 East Pioneer Road, Draper, UT 84020 | City Hall, 1020 East Pioneer Road, Draper, UT 84020 | http://www.msc.fema.gov/lomc | Oct. 2, 2017 | 490244
Virginia: Loudoun | Unincorporated areas of Loudoun County (17-03-1055P) | The Honorable Phyllis J. Randall, Chair, Loudoun County Board of Supervisors, P.O. Box 7000, Leesburg, VA 20177 | Loudoun County Department of Building and Development, 1 Harrison Street, Leesburg, VA 20177 | http://www.msc.fema.gov/lomc | Oct. 6, 2017 | 510099

[FR Doc. 2017-15023 Filed 7-17-17; 8:45 am]

BILLING CODE 9110-12-P